EXPORT-IMPORT BANK

Sunshine Act Meeting

ACTION: Notice of a Partially Open Meeting of the Board of Directors of the Export-Import Bank of the United States.

TIME AND PLACE: Thursday, June 27, 2013 at 9:00 a.m. The meeting will be held at Ex-Im Bank in Room 321, 811 Vermont Avenue NW., Washington, DC 20571.

OPEN AGENDA ITEMS: Item No. 1: Ex-Im Bank's Environmental Procedures and Guidelines.

PUBLIC PARTICIPATION: The meeting will be open to public observation for Item No. 1 only.

FOR FURTHER INFORMATION CONTACT: Members of the public who wish to attend the meeting should call Joyce Stone, Office of the Secretary, 811 Vermont Avenue NW., Washington, DC 20571 (202) 565-3336 by close of business Tuesday, June 25, 2013.

Cristopolis A. Dieguez,
Program Specialist, Office of the General Counsel.

[FR Doc. 2013-14678 Filed 6-17-13; 11:15 am]

BILLING CODE 6690-01-P